DEPARTMENT OF COMMERCE

National Oceanic and Atmospheric Administration

50 CFR Part 679

[Docket No. 070213032-7032-01]

RIN 0648-XE80

Fisheries of the Exclusive Economic Zone Off Alaska; Inseason Adjustment to the 2008 Gulf of Alaska Pacific Cod Total Allowable Catch Amount

AGENCY: National Marine Fisheries Service (NMFS), National Oceanic and Atmospheric Administration (NOAA), Commerce.

ACTION: Temporary rule; inseason adjustment; request for comments.

SUMMARY: NMFS is adjusting the 2008 total allowable catch (TAC) amounts for the Gulf of Alaska (GOA) Pacific cod fishery. This action is necessary because NMFS has determined this TAC is incorrectly specified. This action will ensure the GOA Pacific cod TAC does not exceed the appropriate amount based on the best available scientific information for Pacific cod in the GOA. This action is consistent with the goals and objectives of the Fishery Management Plan for Groundfish of the Gulf of Alaska Management Area (FMP).

DATES: Effective 1200 hrs, Alaska local time (A.l.t.), January 4, 2008, until the effective date of the 2008 and 2009 final harvest specifications for GOA groundfish, unless otherwise modified or superceded through publication of a notification in the Federal Register.

Comments must be received at the following address no later than 4:30 p.m., A.l.t., January 22, 2008.

ADDRESSES: You may submit comments, identified by RIN 0648-XE80, by any one of the following methods:

• Mail to: P.O. Box 21668, Juneau, AK 99802

• Hand delivery to the Federal Building, 709 West 9th Street, Room 420A, Juneau, Alaska

• Electronic Submissions: Submit all electronic public comments via the Federal eRulemaking Portal http://www.regulations.gov

• FAX to 907-586-7557, Attn: Ellen Sebastian

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Jennifer Hogan, 907-586-7228.

SUPPLEMENTARY INFORMATION: NMFS manages the groundfish fishery in the GOA exclusive economic zone according to the FMP prepared by the North Pacific Fishery Management Council (Council) under authority of the Magnuson-Stevens Fishery Conservation and Management Act. Regulations governing fishing by U.S. vessels in accordance with the FMP appear at subpart H of 50 CFR part 600 and 50 CFR part 679.

The 2008 Pacific cod TAC in the GOA was set at 54,194 metric tons (mt) by the 2007 and 2008 harvest specification for groundfish in the GOA (72 FR 9676, March 5, 2007).

In December 2007, the Council recommended a 2008 Pacific cod TAC of 50,269 mt for the GOA. This amount is less than the 54,194 mt established by the 2007 and 2008 harvest specification for groundfish in the GOA (72 FR 9676, March 5, 2007). The TAC recommended by the Council is based on the Stock Assessment and Fishery Evaluation report (SAFE), dated November 2007, which NMFS has determined is the best available scientific information for this fishery.

Steller sea lions occur in the same location as the Pacific cod fishery and are listed as endangered under the Endangered Species Act (ESA). Pacific cod is a principal prey species for Steller sea lions in the GOA. The seasonal apportionment of Pacific cod harvest is necessary to ensure the groundfish fisheries are not likely to cause jeopardy of extinction or adverse modification of critical habitat for Steller sea lions. The regulations at § 679.20(a)(6)(ii) and § 679.20(a)(12)(i) specifies how the Pacific cod TAC shall be apportioned.

In accordance with § 679.25(a)(2)(i)(B), the Administrator, Alaska Region, NMFS (Regional Administrator), has determined that, based on the November 2007 SAFE report for this fishery, the current GOA Pacific cod TAC is incorrectly specified. Consequently, the Regional Administrator is adjusting the 2008 Pacific cod TAC to 50,269 mt in the GOA.

Pursuant to § 679.20(a)(6)(ii) and § 679.20(a)(12)(i), Table 8 of the 2007 and 2008 final harvest specifications for groundfish in the GOA (72 FR 9676, March 5, 2007) is revised for the 2008 Pacific cod TACs in the Western, Central, and Eastern GOA consistent with this adjustment.

Table 8—Final 2008 Seasonal Apportionments and Allocation of Pacific cod TAC Amounts in the Gulf of Alaska; Allocations for Processing by the Inshore and Offshore Components
(values are rounded to the nearest metric ton)
Season | Regulatory area | TAC | Component allocation: Inshore (90%) | Component allocation: Offshore (10%)
| Western | 19,449 | 17,504 | 1,945
A season (60%) |  | 11,669 | 10,502 | 1,167
B season (40%) |  | 7,780 | 7,002 | 778
| Central | 28,426 | 25,583 | 2,843
A season (60%) |  | 17,056 | 15,350 | 1,706
B season (40%) |  | 11,370 | 10,233 | 1,137
| Eastern | 2,394 | 2,155 | 239
Total | 50,269 | 45,242 | 5,027

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would allow for harvests that exceed the appropriate allocations for Pacific cod based on the best scientific information available. NMFS was unable to publish a notice providing time for public comment because the most recent, relevant data only became available as of December 13, 2007, and additional time for prior public comment would result in conservation concerns for the ESA-listed Steller sea lions.

The AA also finds good cause to waive the 30-day delay in the effective date of this action under 5 U.S.C. 553(d)(3). This finding is based upon the reasons provided above for waiver of prior notice and opportunity for public comment.

Under § 679.25(c)(2), interested persons are invited to submit written comments on this action to the above address until January 22, 2008.

This action is required by § 679.22 and § 679.25 and is exempt from review under Executive Order 12866.

Authority: 16 U.S.C. 1801 et seq.

Dated: January 3, 2008.
Emily H. Menashes
Acting Director, Office of Sustainable Fisheries, National Marine Fisheries Service.

[FR Doc. 08-37 Filed 1-4-08; 1:38 pm]

BILLING CODE 3510-22-S